LEGAL SERVICES CORPORATION

Sunshine Act Meeting of the Board of Directors

Time and Date: The Board of Directors of the Legal Services Corporation will meet on May 22, 2007 via conference call. The meeting will begin at 2 p.m. (EST), and continue until conclusion of the Board's agenda.

Location: 3333 K Street, NW., Washington, DC 20007, 3rd Floor Conference Center.

Status of Meeting: Open. Directors will participate by telephone conference in such a manner as to enable interested members of the public to hear and identify all persons participating in the meeting. Members of the public wishing to observe the meeting may do so by joining participating staff at the location indicated above. Members of the public wishing to listen to the meeting by telephone should call 1-888-795-2173 and enter 58581 on the key pad when prompted. To enhance the quality of your listening experience as well as that of others and to eliminate background noises that interfere with the audio recording of the proceeding, please mute your telephone during the meeting.

Matters To Be Considered

1. Approval of the agenda.

2. Consider and act on Board of Directors' response to the Inspector General's Semiannual Report to Congress for the period of October 1, 2006 through March 31, 2007.

3. Consider and act on other business.

4. Public comment.

Contact Person for Information: Patricia Batie, Manager of Board Operations, at (202) 295-1500.

Special Needs: Upon request, meeting notices will be made available in alternate formats to accommodate visual and hearing impairments. Individuals who have a disability and need an accommodation to attend the meeting may notify Patricia Batie at (202) 295-1500.

Dated: May 15, 2007.
Victor M. Fortuno,
Vice President for Legal Affairs, General Counsel & Corporate Secretary.

[FR Doc. 07-2491 Filed 5-15-07; 3:20 pm]

BILLING CODE 7050-01-P